SURFACE TRANSPORTATION BOARD

[Docket No. FD 36495]

GG Railroad, LLC—Acquisition and Operation Exemption—Line of BQ Railroad Company

GG Railroad, LLC (GGRR), a noncarrier and wholly owned subsidiary of Gavilon Grain LLC, has filed a verified notice of exemption under 49 CFR 1150.31 to acquire and operate approximately 1.64 miles of rail line located between milepost 8.0 and milepost 9.64 at Rogers, in Barnes County, N.D. (the Line). The Line is currently owned and operated by BQ Railroad Company (BQRR), a Class III rail carrier.

The verified notice states that GGRR and BQRR are parties to an agreement that, when finalized, will include the sale of all of BQRR's rights in the Line and underlying land to GGRR, to be conveyed via a quitclaim deed. GGRR states it will own, operate, and provide common carrier service to shippers on the Line, noting there is currently only one shipper, a grain facility. According to GGRR, BNSF Railway Company (BNSF) retains trackage rights over the Line but has not utilized those trackage rights in approximately 15 years.

GGRR certifies that its projected annual revenues as a result of this transaction will not exceed $5 million or the threshold required to qualify as a Class III carrier. GGRR also certifies that the proposed acquisition and operation of the Line does not involve a provision or agreement that may limit future interchange with a third-party connecting carrier.

The transaction may be consummated on or after April 25, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than April 16, 2021 (at least seven days before the exemption becomes effective).

All pleadings, referring to Docket No. FD 36495, should be filed with the Surface Transportation Board via e-filing on the Board's website. In addition, a copy of each pleading must be served on GGRR's representative, Thomas W. Wilcox, GKG Law, P.C., The Foundry Building, 1055 Thomas Jefferson St. NW, Suite 500, Washington, DC 20007.

According to GGRR, this action is categorically excluded from environmental review under 49 CFR 1105.6(c) and from historic preservation reporting requirements under 49 CFR 1105.8(b).

Board decisions and notices are available at www.stb.gov.

Decided: April 5, 2021.
By the Board, Allison C. Davis, Director, Office of Proceedings.
Andrea Pope-Matheson,
Clearance Clerk.

[FR Doc. 2021-07275 Filed 4-8-21; 8:45 am]

BILLING CODE 4915-01-P